DEPARTMENT OF COMMERCE

National Oceanic and Atmospheric Administration

[I.D.113000C]

Endangered Species; Permits

AGENCY: National Marine Fisheries Service (NMFS), National Oceanic and Atmospheric Administration (NOAA), Commerce.

ACTION: Receipt of application for an enhancement permit (1273); issuance of permits (1254).

SUMMARY: Notice is hereby given of the following actions regarding permits for takes of endangered and threatened species for the purposes of scientific research and/or enhancement: NMFS has received a permit application from the North Carolina Aquarium Division (NCAD)(1273); NMFS has issued permit 1254 to Central Hudson Gas& Electric Corporation/Dynergy Danskammer, L.L.C.& Dynergy Roseton, L.L.C. (CHGE/DD & DR) (1254).

DATES: Comments or requests for a public hearing on any of the new applications or modification requests must be received at the appropriate address or fax number no later than 5 p.m. eastern standard time on January 8, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits (1273, 1254), Endangered Species Division, Office of Protected Resources, NMFS, 1315 East-West Highway, Silver Spring, MD, 20910 301-713-1401.

FOR FURTHER INFORMATION CONTACT: For permits 1273: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sea Turtles

Fish

Shortnose sturgeon (Acipenser brevirostrum).

New Applications Received

Application 1273: The North Carolina Aquarium Division proposes to continue to maintain 17 endangered shortnose sturgeon for the purposes of public education through species enhancement as identified in the Final Recovery Plan for Shortnose Sturgeon.

Permits and Modifications Issued

Permit 1254: Notice was published on June 28, 2000 (65 FR 39869) that Central Hudson Gas& Electric Corporation/Dynergy Danskammer, L.L.C.& Dynergy Roseton, L.L.C. applied for a scientific research permit (1254). The applicant has requested a scientific research permit to conduct a monitoring study as part of an incidental take permit for the operation of the Roseton and Danskammer Point power plants. The applicant will be collecting larvae, juvenile and adult shortnose sturgeon in various location in the Hudson River between the estuary and River mile 65. Permit 1254 was issued on November 29, 2000, authorizing take of listed species. Permit 1254 expires August 31, 2005.

Dated: December 1, 2000.
Wanda L. Cain,
Chief, Endangered Species Division, Office of Protected Resources, National Marine Fisheries Service.

[FR Doc. 00-31232 Filed 12-6-00; 8:45 am]

BILLING CODE 3510-22-S